DEPARTMENT OF THE INTERIOR

Bureau of Indian Affairs

Draft Environmental Impact Statement for the Big Sandy Rancheria Band of Western Mono Indians' Proposed Casino and Resort Project, Fresno County, CA

AGENCY: Bureau of Indian Affairs, Interior.

ACTION: Notice of availability.

SUMMARY: This notice advises the public that the Bureau of Indian Affairs (BIA) as lead agency, with the Big Sandy Rancheria Band of Western Mono Indians (Tribe) as a cooperating agency, intends to file a Draft Environmental Impact Statement (DEIS) with the U.S. Environmental Protection Agency (EPA) for the Tribe's proposed lease agreement with an individual Indian trust land allotee and subsequent construction of a casino/resort project to be located near Friant, Fresno County, California. This notice also advises the public that the DEIS is now available for public review and comment and announces the availability of copies of the document and the date, time and location of a public hearing to receive comments on the DEIS. Details of the proposed action, location, and areas of environmental concern addressed in the DEIS are provided below in the SUPPLEMENTARY INFORMATION section. This notice provides a 75-day public comment period and thereby grants a 30-day extension to the normal 45-day public comment period.

DATES: The DEIS will be available for public comment beginning January 14, 2011. Written comments on the DEIS must arrive by March 28, 2011. A public hearing will be held on Wednesday, February 2, 2011, starting at 6 p.m. to 9 p.m. or until the last public comment is received.

ADDRESSES: A public hearing will be held in the multi-purpose room of the Foothill Middle School, 29147 Auberry Road, Prather, California. You may mail or hand-carry written comments to Amy Dutschke, Regional Director, Pacific Region, Bureau of Indian Affairs, 2800 Cottage Way, Sacramento, California 95825. See the SUPPLEMENTARY INFORMATION section of this notice for locations where the DEIS is available for review and for directions on submitting comments.

FOR FURTHER INFORMATION CONTACT: John Rydzik (916) 978-6051.

SUPPLEMENTARY INFORMATION: The Big Sandy Rancheria is a federally recognized Indian tribe with a land base near Auberry, California. The Tribe has approximately 450 members and is governed by a Tribal Council consisting of five members, under a federally approved constitution. The Big Sandy Rancheria currently has a federally approved tribal-state gaming compact with the State of California.

The Tribe is proposing to construct a gaming and entertainment facility that will include a gaming floor, restaurant and lounge facilities, an entertainment hall, a hotel and conference center, a multi-level parking garage, a water and wastewater treatment plant, a water supply system including water storage tanks, and an access driveway. The proposed buildings, not including the parking garage, would total approximately 532,000 square feet of floor space.

The proposed project will be located east of Friant in Fresno County, California, on undeveloped foothill property comprising approximately 48 acres of allotted Indian land currently held in trust by the United States for the beneficial interest of an individual member of the Tribe. The Tribe and the individual Indian allottee have executed and submitted for BIA approval a lease agreement granting use of the property to the Tribe for the development of a casino, resort hotel, and supporting facilities. The BIA's proposed Federal action is the approval of the lease agreement.

The BIA, serving as the lead agency for compliance with the National Environmental Policy Act (NEPA), published a Notice of Intent (NOI) to prepare the EIS for the proposed action in the Federal Register on October 3, 2008 (73 FR 57646). The National Indian Gaming Commission (NIGC) initiated the public scoping process, including a public scoping meeting on September 15, 2005, to determine the issues, concerns, and alternatives to be included in the EIS. From that scoping meeting, and from comments received following publication of the NOI, a range of project alternatives were developed and subsequently analyzed in the DEIS, including: (1) Proposed action—casino, resort hotel, multi-level parking structure, entertainment and convention facilities; (2) Reduced project with approximately 72 percent of the gaming capacity of the Proposed Action and similar reduction of the entertainment facility; (3) No hotel but otherwise the same as the Proposed Action; (4) Resort hotel with meeting facilities, a restaurant, a pool and spa and no gaming facilities; and (5) No action alternative. Environmental issues addressed in the DEIS include aesthetics and visual resources; agricultural resources; air quality; biological resources; cultural resources; geology, minerals, and paleontological resources; hazards and hazardous materials; hydrology, water quality, and water supply; land use and planning; noise; population and housing; public services; recreation; socioeconomics and environmental justice; traffic and transportation; utilities and service systems; cumulative effects; indirect effects; growth inducing effects; and mitigation measures.

Directions for Submitting Comments: Please include your name, return address, and the caption: “DEIS Comments, Big Sandy Rancheria Band of Western Mono Indians' Casino and Resort Project,” on the first page of your written comments.

Locations where the DEIS is Available for Review: The DEIS will be available for review at the following locations:

• Auberry Branch Library, 33049 Auberry Road, Auberry, California 93602.

• Clovis Regional Library, 1155 Fifth Street, Clovis, California 93612.

• Fresno County Public Library Government Publications, 2420 Mariposa Street, Fresno, California 93721-2204.

Information for the Auberry Branch Library can be obtained by calling (559) 855-8523. Hours of operation for the Clovis Regional library can be obtained by calling (559) 299-9531. For information on the Fresno County Public Library call (559) 488-3195. The DEIS is also available on the following Web site: http://www.bigsandyrancheria.com/project/project.htm.

To obtain a compact disk copy of the DEIS, please provide your name and address in writing or by voicemail to John Rydzik, Chief of the Division of Environmental, Cultural Resources Management and Safety, at the BIA address listed in the ADDRESSES section of this notice or at the telephone number provided in the FOR FURTHER INFORMATION CONTACT section of this notice. Note however, individual paper copies of the DEIS will be provided upon payment of applicable printing expenses by the requestor for the number of copies requested.

Public Comment Availability: Written comments, including names and addresses of respondents, will be available for public review at the BIA mailing address shown in the ADDRESSES section, during regular business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority: This notice is published pursuant to Section 1503.1 of the Council of Environmental Quality Regulations (40 CFR, Part 1500 through 1508) and Section 46.305 of the Department of Interior Regulations (43 CFR Part 46), implementing the procedural requirements of the NEPA of 1969, as amended (42 U.S.C. 4371 et seq.), and is in the exercise of authority delegated to the Assistant Secretary—Indian Affairs by 209 DM 8.

Dated: December 29, 2010.
George Skibine,
Deputy Assistant Secretary—Indian Affairs.

[FR Doc. 2011-560 Filed 1-13-11; 8:45 am]

BILLING CODE 4310-W7-P